DEPARTMENT OF AGRICULTURE

Forest Service

Helena National Forest; Montana; Blackfoot Travel Plan EIS

AGENCY: Forest Service, USDA.

ACTION: Corrected Notice of Intent to prepare an environmental impact statement for the Blackfoot Travel Plan. The original notice was published in the Federal Register on October 29, 2010 (FR Doc. 2010-27353, page 66718-66719) and a corrected notice was published on November 26, 2010 (FR Doc. 2010-29772, page 72784-72785).

SUMMARY: The Helena National Forest (HNF) is submitting a corrected Notice of Intent (NOI) in regard to the Blackfoot Travel Plan Environmental Impact Statement (EIS) that is being prepared. This NOI includes the correction of the previous Blackfoot Travel Plan NOI and includes a new alternative, alternative 3 and a potential programmatic plan amendment to the Helena National Forest Plan regarding the standard for elk hiding cover/open road density index. The plan amendment would be signed as a separate decision to the Blackfoot Travel Plan EIS. The proposed programmatic plan amendment would establish a new standard for elk security for the herd units located within the project area. As a result, HNF Forest Plan Standard 4a would be amended as it relates to the Blackfoot travel planning area. This programmatic plan amendment was not explicitly stated in the previous two Federal Register notices. All other aspects of the proposal are the same as those described in the previous Federal Register notices. The Helena National Forest is preparing an EIS to analyze the effects of proposed changes to existing motorized public access routes and prohibitions within the Blackfoot travel planning area. Consistent with Forest Service travel planning regulations, the resulting available public motorized access routes and areas would be designated on a Motor Vehicle Use Map (MVUM). Upon publishing the MVUM, public use of a motor vehicle other than in accordance with those designations would be prohibited.

DATES: The Draft EIS is currently being prepared and will consider public scoping comments that have been received to date; all previous comments on this project will be retained and considered. The Draft EIS will include more details regarding the programmatic plan amendment and alternative 3 and will be available for public comment and review in January of 2013, with a Final EIS expected in July of 2013. At this time, there is no formal notice and comment period that will provide the commenter appeal rights, but comments specific to this new information are welcome and will be fully considered.

ADDRESSES: Comments can be sent to the Helena National Forest Lincoln Ranger District, 1569 Hwy 200 Lincoln, MT 59639. Comments may also be sent via email to comments-northern-helena-lincoln@fs.fed.us, or via facsimile to 406-362-4253. Please indicate the name “Blackfoot Travel Plan” in the subject line of your email. It is important that reviewers provide their comments at such times and in such a way that they are useful to the Agency's preparation of the EIS. Therefore, comments should clearly articulate the reviewer's concerns and contentions. Comments received in response to this solicitation, including names and addresses of those who comment, will become part of the public record for this proposed action. Comments submitted anonymously will be accepted and considered; however, anonymous comments will not provide the Agency with the ability to provide the respondent with subsequent environmental documents.

FOR FURTHER INFORMATION CONTACT: Amber Kamps, Lincoln District Ranger, 1569 Hwy 200, Lincoln, MT 59639, (406) 362-7002 or at the Helena National Forest Web page at http://www.fs.fed.us/nepa/fs-usda-pop.php/?project=30899. Individuals who use telecommunication devices for the deaf (TDD) may call the Federal Information Relay Service (FIRS) at 1-800-877-8339 between 8 a.m. and 8 p.m., Eastern Time, Monday through Friday.

SUPPLEMENTARY INFORMATION: Purpose and Need for Action: The overall objective of this proposal is to provide a manageable system of designated public motorized access routes and areas within the Blackfoot Travel area, consistent with and to achieve the purposes of Forest Service travel management regulations at 36 CFR part 212 Subpart B. The existing system of available public motor vehicle routes and areas in the Blackfoot Travel area is the culmination of multiple agency decisions over recent decades. Public motor vehicle use of the majority of this available system continues to be manageable and consistent with the current travel management regulation. Exceptions have been identified, based on public input and the criteria listed at 36 CFR 212.55, and in these cases changes are proposed to meet the overall objectives. The decisions will ensure compliance with the Forest Plan and Interagency requirements for grizzly bear security and habitat within the recovery zone.

Proposed Action (Alternative 2): The Helena National Forest proposes the following changes to the existing motorized public access routes and prohibitions within the Blackfoot travel planning area. Consistent with the travel planning regulations at 36 CFR part 212 subpart B, the resulting available public motorized access routes and areas would be designated on a Motor Vehicle Use Map and the prohibition at 36 CFR 261.13 would take effect. 36 CFR 261.13 would prohibit public use of a motor vehicle other than in accordance with those designations.

The proposed action would:

• Change 1.8 miles of currently closed yearlong routes or user-created routes to open with seasonal restrictions

• Change 5.1 miles of seasonally restricted routes to having a different seasonal restriction

• Change 6.7 miles of currently closed yearlong or user-created routes to being open yearlong

• Change 9.4 miles of seasonally restricted routes to become open yearlong

• Put 82.1 miles of currently open routes into storage (where routes are self-maintaining in non-use status for up to 20 years by re-contouring access points, and removing culverts)

• Change 2.5 miles of open seasonally or open yearlong routes to closed yearlong

• Close 7.9 miles (estimated) of user-created routes

• Create 41.4 miles of new motorized trails from currently seasonally restricted, open yearlong, user-created, and previously decommissioned routes

• Create 1.5 miles of single-track motorized trail from currently double-track motorized trail

• Construct 1.6 miles of new road

• Place 65.5 miles of currently closed routes into storage

• Obliterate 8.1 miles of closed yearlong, open yearlong, or user-created routes

• Create 5.5 miles of non-motorized trails from currently closed or user-created routes

• Create 1.5 miles of non-motorized trails from currently open or seasonally restricted routes

• Create 13.7 miles of non-motorized trails from currently single or double-track motorized routes

• Create 33 miles of mountain bike trails on National Forest (may also include non-motorized or motorized uses)

Alternative 3: This alternative is being developed in response to the 2010 scoping process in conjunction with continued collaboration with individuals, groups and organizations. It takes into account input regarding water quality and fish habitat, wildlife security and wildlife habitat improvements, and enhanced non-motorized recreation opportunities while still providing for a motorized recreational experience both on and off the trail.

Forest Plan Consistency: Preliminary analysis indicates this proposal may require a programmatic amendment to the HNF Plan for the project area regarding the standard for the hiding cover/open road density index. The proposed programmatic plan amendment would establish a new standard for elk security for those herd units within the project area. As a result, the Forest Plan standard would be amended specifically at this time and place as it relates to the Blackfoot travel planning Area. A separate decision would be signed for this programmatic plan amendment.

Responsible Official: The Responsible Official is Kevin T. Riordan, Helena National Forest Supervisor.

Nature of the Decision to Be Made: The responsible official will decide whether to implement the proposed action, no action, other alternatives, or any combination of the analyzed alternative components considered under analysis. He will consider the comments, disclosures of environmental consequences, and applicable laws, regulations, and policies in making the decision and stating the rationale in the Record of Decision (ROD). Since this proposed travel plan includes the implementation plan, upon completion, the plan would be implemented as per the ROD.

Possible Permit/License Requirements: Any project activity that involves placement of fill in a jurisdictional body of water would require a Clean Water Act section 404 permit (US Army Corps of Engineers issuing agency) and a related Montana Stream Protection Act 124 permit (Montana Fish, Wildlife, and Parks issuing agency). Any construction of new road/trail could potentially require a National pollutant discharge elimination system (NPDES) permit, depending on the area of disturbance and proximity to a water body (Department of Environmental Quality issuing agency).

Scoping Process: This revised NOI guides the development of the EIS and Programmatic Forest Plan Amendment. Public comments received to date were taken into consideration in developing the above alternatives. These comments do not need to be resubmitted; the HNF requests that only new or additional comments be submitted if desired, specific to this new information. Public meetings will be held when the Draft EIS is released.

Dated: October 1, 2012.
Kevin T. Riordan,
Forest Supervisor.

[FR Doc. 2012-24880 Filed 10-9-12; 8:45 am]

BILLING CODE 3410-11-P